DEPARTMENT OF EDUCATION

34 CFR Part 345

Removal of Regulations

AGENCY: Department of Education.

ACTION: Final regulations.

SUMMARY: The Secretary amends the Code of Federal Regulations (CFR) to remove obsolete regulations. As a result of the enactment of the Assistive Technology Act of 1998, these regulations are no longer needed. The Secretary therefore takes this action to remove the regulations.

DATES: Part 345 is removed effective March 25, 2004.

FOR FURTHER INFORMATION CONTACT: Sandy M. Jablonski, U.S. Department of Education, room 6C109, FB-6, 400 Maryland Avenue, SW., Washington, DC 20202-2110. Telephone: (202) 401-8300.

If you use a telecommunications device for the deaf (TDD), you may call the Federal Information Relay Service (FIRS) at 1-800-877-8339.

Individuals with disabilities may obtain this document in an alternative format (e.g., Braille, large print, audiotape, or computer diskette) on request to the contact person listed in this section.

SUPPLEMENTARY INFORMATION: The Department has reviewed its regulations and has identified the regulations removed by this document as obsolete and unnecessary. The regulations removed are 34 CFR part 345 (State Grants Program for Technology-Related Assistance for Individuals with Disabilities).

The regulations being removed are no longer necessary because the statutory authority for the regulations “ the Technology-Related Assistance for Individuals with Disabilities Act of 1988—has been superseded by the Assistive Technology Act of 1998, 29 U.S.C. 3001 through 3058.

Waiver of Proposed Rulemaking

In accordance with the Administrative Procedure Act (5 U.S.C. 553), it is the practice of the Secretary to offer interested parties the opportunity to comment on proposed regulations. However, this document merely removes obsolete regulations from the Code of Federal Regulations. Removal of the regulations does not establish or affect substantive policy. Therefore, the Secretary has determined, pursuant to 5 U.S.C. 553(b)(B), that public comment is unnecessary and contrary to the public interest.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

List of Subjects in 34 CFR Part 345

Grant programs-education, Individuals with disabilities, Reporting and recordkeeping requirements, Research.

Dated: February 18, 2004.
Troy R. Justesen,
Acting Deputy Assistant Secretary for Special Education and Rehabilitative Services.

PART 345—STATE GRANTS PROGRAM FOR TECHNOLOGY-RELATED ASSISTANCE FOR INDIVIDUALS WITH DISABILITIES

For the reasons stated in the preamble, under the authority at 20 U.S.C. 1221e-3, the Secretary amends title 34 of the Code of Federal Regulations by removing part 345.

[FR Doc. 04-3850 Filed 2-23-04; 8:45 am]

BILLING CODE 4000-01-P